DEPARTMENT OF THE INTERIOR

Fish and Wildlife Service

[FWS-R5-R-2011-N043; BAC-4311-K9-S3]

Stewart B. McKinney National Wildlife Refuge, Middlesex County, CT; Comprehensive Conservation Plan and Environmental Assessment

AGENCY: Fish and Wildlife Service, Interior.

ACTION: Notice of intent; request for comments.

SUMMARY: We, the U.S. Fish and Wildlife Service (Service) intend to prepare a comprehensive conservation plan (CCP) for Stewart B. McKinney National Wildlife Refuge (NWR). An environmental assessment (EA) evaluating effects of various CCP alternatives will also be prepared. We provide this notice in compliance with our policy to advise other Federal and State agencies, Tribes, and the public of our intentions, and to obtain suggestions and information on the scope of issues to consider in the planning process. We are also announcing public meetings and requesting public comments.

DATES: We will hold public meetings to begin the CCP planning process; see Public Meetings under SUPPLEMENTARY INFORMATION for dates, times, and locations. We will announce opportunities for public input in local news media throughout the CCP process.

ADDRESSES: Send your comments or requests for more information by any of the following methods:

E-mail: northeastplanning@fws.gov. Include “Stewart B. McKinney NWR” in the subject line of the message.

Fax: Attention: Bill Perry, 413-253-8468.

U.S. Mail: Bill Perry, Refuge Planner, U.S. Fish and Wildlife Service, 300 Westgate Center Drive, Hadley, MA 01035.

In-Person Drop-off: You may drop off comments during regular business hours at the above address.

FOR FURTHER INFORMATION CONTACT: Bill Perry, 413-253-8688 (phone), Bill_Perry@fws.gov (e-mail).

SUPPLEMENTARY INFORMATION

Introduction

With this notice, we initiate our process for developing the CCP for Stewart B. McKinney NWR, with headquarters located in Middlesex County, CT. This notice complies with our CCP policy to: (1) Advise other Federal and State agencies, Tribes, and the public of our intention to conduct detailed planning on this refuge: and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Our CCP process provides participation opportunities for Tribal, State, and local governments, agencies, organizations, and the public. At this time, we encourage input in the form of issues, concerns, ideas, and suggestions for the future management of Stewart B. McKinney NWR.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

Stewart B. McKinney National Wildlife Refuge

Stewart B. McKinney NWR encompasses over 900 acres of forest, barrier beach, tidal wetland, and island habitats. The refuge consists of 10 separate units along the Connecticut coast from Westbrook to Greenwich. Lands include eight islands and three coastline locations. Located in the Atlantic Flyway, the refuge provides important resting, feeding, and nesting habitat for many species of wading birds, shorebirds, songbirds, and terns, including the endangered roseate tern. Adjacent waters serve as wintering habitat for brant, scoters, American black duck, and other waterfowl.

The refuge was established in 1972 under the name Salt Meadow NWR. It was re-designated by Congress as the Connecticut Coastal NWR in 1984. The refuge was then renamed again in 1987 to honor the late U.S. Congressman Stewart B. McKinney, who was instrumental in the establishment of the refuge. Under the Migratory Bird Conservation Act (16 U.S.C. 715-715d, 715e, 715f-715r) of 1929, (45 Stat. 1222), the original unit was established, “for use as an inviolate sanctuary, or any other management purposes, for migratory birds.” The purposes of the refuge include: enhancing the populations of herons, egrets, terns, and other shore and wading birds within the refuge; encouraging natural diversity of fish and wildlife within the refuge; and providing opportunities for scientific research, environmental education, and fish and wildlife-dependent recreation.

The 347-acre Salt Meadow Unit includes salt marsh and forested upland habitat in the Town of Westbrook. It provides roosting and courtship grounds for early successional birds such as American woodcock, breeding grounds for sharp-tailed sparrows, and migration and nesting areas for other passerines. The Faulkner Island Unit is a 5-acre maritime island located off the coast of Guilford in Long Island Sound. It provides breeding habitat for over 100 pairs of the Federally endangered roseate tern, and is home to more than 3,500 pairs of common terns, a State species of concern. The Milford Point Unit is a 22-acre barrier beach peninsula located at the mouth of the Housatonic River in the Town of Milford. It is a breeding site for the Federally threatened piping plover. The 525-acre tidal marsh complex of the Great Meadows Unit is located on the Connecticut shoreline in the Town of Stratford. It provides foraging habitat for the Federally and State-threatened piping plover, and for the State-threatened least tern. Other Federally listed threatened and State-endangered or special concern species have been seen at Great Meadows, including the sharp-tailed sparrow, least bittern, pied-billed grebe, and bald eagle. Other island units include the 70-acre Chimon Island Unit, 57-acre Sheffield Island Unit, 1½-acre Goose Island Unit, 3-acre Peach Island Unit, 31-acre Calf Island Unit, and 5-acre Outer Island Unit. These islands provide foraging habitat for large numbers of wading birds such as herons, egrets, and ibises, as well as migratory shorebirds and passerines. The small blocks of undeveloped salt marsh, grassland, and coastal forest on these islands provide thousands of birds with essential migratory and nesting habitat along the highly developed New England coast.

The predominant public uses on refuge lands are wildlife observation and photography. There are walking trails and boardwalks, observation blinds and decks, and special use permits for island tours on remote island sites.

Scoping: Preliminary Issues, Concerns, and Opportunities

We have identified preliminary issues, concerns, and opportunities that we may address in the CCP. We have briefly summarized these issues below. During public scoping, we may identify additional issues. These include invasive species management, public use management consistent with protecting habitats, and sea level rise due to climate change.

Public Meetings

We will give the public an opportunity to provide input at public meetings. Public meetings will be announced on our Web site at http://www.fws.gov/northeast/planning/Mckinney/ccphome.html. You can obtain the schedule from the planning team leader or project leader (see ADDRESSES). You may also send comments anytime during the planning process by mail, e-mail, or fax (see ADDRESSES). There will be additional opportunities to provide public input once we have prepared the draft CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: April 18, 2011.
Donna T. Stovall,
Acting Regional Director, U.S. Fish and Wildlife Service.

[FR Doc. 2011-14325 Filed 6-8-11; 8:45 am]

BILLING CODE 4310-55-P